DEPARTMENT OF HEALTH AND HUMAN SERVICES

Administration for Children and Families

Submission for OMB Review; Comment Request

Title: Form OCSE-396, “Child Support Enforcement Program Quarterly Financial Report”, Form OCSE-34, “Child Support Enforcement Program Quarterly Collection Report”.

OMB No.: 0970-0181.

Description: Form OCSE-396 and Form OCSE-34 are financial reports submitted following the end of each fiscal quarter by grantees administering the Child Support Enforcement Program in accordance with plans approved under title IV-D of the Social Security Act. Submission of these forms enables grantees to meet their statutory and regulatory requirement to report program expenditures and child support collections, respectively, from the previous fiscal quarter.

States use Form OCSE-396 to report quarterly expenditures made in the previous quarter and to estimate program expenditures to be made and the incentive payments to be earned in the upcoming quarter. The Administration for Children and Families provides Federal funding to States for the Child Support Enforcement Program at the rate of 66 percent for all allowable and legitimate administrative costs of this program.

Tribes use OMB Form SF-425 to report quarterly expenditures made in the previous quarter. Form SF-425 is not included as part of this comment request.

As part of this request, minor changes are being proposed only in response to amendments to Federal regulations:

• 45 CFR 304.25(b) was amended to extend the quarterly reporting deadline for both reports from “30” to “45” days after the end of each fiscal quarter.

• 45 CFR part 95 was amended to require that all expenditures for a Statewide Child Support Enforcement System will now require an approved Advanced Planning Document (APD). Therefore, Line 6 on Form OCSE-396, “ADP Costs Without APD Required” is being eliminated as no longer necessary.

The necessary instructions are being amended in response to both changes.

Respondents: 54 States (including Puerto Rico, Guam, the Virgin Islands and the District of Columbia) for Forms OCSE-396 and OCSE-34 plus approximately 60 Tribes for Form OCSE-34.

Annual Burden Estimates
Instrument | Number of respondents | Number of responses per respondent | Average burden hours per response | Total burden hours
Form OCSE-396 | 54 | 4 | 6 | 1,296
Form OCSE-34 | 114 | 4 | 14 | 6,384

Estimated Total Annual Burden Hours: 7,680.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-16390 Filed 8-3-17; 8:45 am]

BILLING CODE 4184-01-P